DEPARTMENT OF ENERGY

Federal Energy Regulatory Commission

Combined Notice of Filings # 1

October 24, 2006.

Take notice that the Commission received the following exempt wholesale generator filings:

Docket Numbers: EG07-5-000.

Applicants: Holland Energy, LLC.

Description: Holland Energy, LLC submits a notice of Self-Recertification of Exempt Wholesale Generator Status.

Filed Date: 10/19/2006.

Accession Number: 20061023-0124.

Comment Date: 5 p.m. Eastern Time on Thursday, November 9, 2006.

Take notice that the Commission received the following electric rate filings:

Docket Numbers: ER97-4257-012.

Applicants: Mid Power Service Corporation.

Description: Mid-Power Service Corporation submits its Triennial Revised Market Analyses for period ended 9/30/06, in compliance with FERC's 9/30/97 Order.

Filed Date: 10/19/2006.

Accession Number: 20061023-0088.

Comment Date: 5 p.m. Eastern Time on Thursday, November 9, 2006.

Docket Numbers: ER99-3502-006.

Applicants: Berkshire Power Holdings, LLC.

Description: Berkshire Power Holdings, LLC submits a Notice of Withdrawal of Application.

Filed Date: 10/18/2006.

Accession Number: 20061018-5048.

Comment Date: 5 p.m. Eastern Time on Wednesday, November 8, 2006.

Docket Numbers: ER01-1919-009.

Applicants: Exelon Energy Company.

Description: Exelon Energy Company submits this modification to its market-based tariff to delete the affiliate transactions provision regarding Public Service Enterprise Group, Incorporated.

Filed Date: 10/19/2006.

Accession Number: 20061020-0220.

Comment Date: 5 p.m. Eastern Time on Thursday, November 9, 2006.

Docket Numbers: ER06-881-004.

Applicants: Midwest Independent Transmission System Operator, Inc.

Description: Midwest Independent Transmission System Operator, Inc. submits a Large Generator Interconnection Agreement with Northern States Power Company and Power Partners Midwest, LLC.

Filed Date: 10/18/2006.

Accession Number: 20061019-0191.

Comment Date: 5 p.m. Eastern Time on Wednesday, November 8, 2006.

Docket Numbers: ER06-1208-002.

Applicants: Vermont Electric Power Company; Vermont Transco LLC.

Description: Vermont Electric Power Co and Vermont Transco LLC submit a withdrawal of its 9/20/06 filing of Certificates of Concurrence to compliance with Commission Order issued 8/21/06.

Filed Date: 10/16/2006.

Accession Number: 20061019-0136.

Comment Date: 5 p.m. Eastern Time on Monday, November 6, 2006.

Docket Numbers: ER06-1297-001.

Applicants: Fox Energy Company LLC.

Description: Fox Energy Company LLC submits its First Revised Sheet 1 to its FERC Electric Rate Schedule No. 2, effective 10/11/06.

Filed Date: 10/13/2006.

Accession Number: 20061016-0117.

Comment Date: 5 p.m. Eastern Time on Friday, November 3, 2006.

Docket Numbers: ER06-1311-001.

Applicants: ISO New England Inc.

Description: ISO New England Inc. submits a Revised Market Participant Service Agreement with Energy Spectrum, Inc.

Filed Date: 10/19/2006.

Accession Number: 20061020-0210.

Comment Date: 5 p.m. Eastern Time on Thursday, November 9, 2006.

Docket Numbers: ER06-1405-001.

Applicants: Bangor Hydro-Electric Company.

Description: Bangor Hydro-Electric Co. submits its Construction Commitment Agreement with New Brunswick Power Transmission Corporation designated as Original Service Agreement No. BHE-200, et al.

Filed Date: 10/19/2006.

Accession Number: 20061020-0215.

Comment Date: 5 p.m. Eastern Time on Thursday, November 9, 2006.

Docket Numbers: ER06-1457-001.

Applicants: Louisville Gas & Electric Company; Kentucky Utilities Company.

Description: E. ON. U.S. LLC on behalf of Louisville Gas & Electric et al. submits executed agreements with the Illinois Municipal Electric Agency for firm point-to-point transmission service—Trimble County Unit 1 and Unit 2.

Filed Date: 10/19/2006.

Accession Number: 20061020-0205.

Comment Date: 5 p.m. Eastern Time on Thursday, November 9, 2006.

Docket Numbers: ER06-1531-001.

Applicants: Great Lakes Energy LLC.

Description: Great Lakes Energy LLC submits an amendment to its Original Petition for Acceptance of Initial Tariff, Waivers and Blanket Authority.

Filed Date: 10/18/2006.

Accession Number: 20061020-0207.

Comment Date: 5 p.m. Eastern Time on Wednesday, November 8, 2006.

Docket Numbers: ER06-1546-001.

Applicants: Florida Power Corporation.

Description: Florida Power Corporation submits correction to its 9/29/06 filing to amend its Cost-Based Wholesale Power Sales Power Tarrif and request for a shortened notice period.

Filed Date: 10/19/2006.

Accession Number: 20061020-0206.

Comment Date: 5 p.m. Eastern Time on Monday, October 30, 2006.

Docket Numbers: ER07-43-000.

Applicants: Arizona Public Service Company.

Description: Arizona Public Service Co. submits Notice of Cancellation of the 1968 Purchase and Transmission Agreement with Yuma Irrigation District.

Filed Date: 10/17/2006.

Accession Number: 20061018-0228.

Comment Date: 5 p.m. Eastern Time on Tuesday, November 7, 2006.

Docket Numbers: ER07-46-000.

Applicants: NorthWestern Corporation.

Description: NorthWestern Corp. submits a change in rates for transmission services under NorthWestern's Montana OATT, FERC Electric Tariff, Sixth Revised Volume 5, effective 12/18/06.

Filed Date: 10/17/2006.

Accession Number: 20061020-0151.

Comment Date: 5 p.m. Eastern Time on Tuesday, November 7, 2006.

Docket Numbers: ER07-47-000.

Applicants: PM Interconnection, LLC.

Description: PJM Interconnection, LLC submits its Interconnection Service Agreement with Liberty Gap Wind Force, LLC and Monongahela Power Co. dba Allegheny Power.

Filed Date: 10/18/2006.

Accession Number: 20061019-0199.

Comment Date: 5 p.m. Eastern Time on Wednesday, November 8, 2006.

Docket Numbers: ER07-48-000.

Applicants: Verde Renewable Energy, Inc.

Description: Verde Renewable Energy, Inc. submits a Petition for Acceptance of Initial Tariff, Waivers and Blanket Authority.

Filed Date: 10/18/2006.

Accession Number: 20061020-0209.

Comment Date: 5 p.m. Eastern Time on Wednesday, November 8, 2006.

Docket Numbers: ER07-49-000.

Applicants: Northeast Utilities Service Company.

Description: Northeast Utilities Service Company submits a Notice of Cancellation of Public Service of New Hampshire Rate Schedule 150.

Filed Date: 10/19/2006.

Accession Number: 20061020-0208.

Comment Date: 5 p.m. Eastern Time on Thursday, November 9, 2006.

Docket Numbers: ER07-50-000.

Applicants: Midwest Independent Transmission System Operator, Inc.

Description: Midwest Independent Transmission System Operator, Inc. submits its Facilities Construction Agreement with Great River Energy—Generation.

Filed Date: 10/20/2006.

Accession Number: 20061023-0123.

Comment Date: 5 p.m. Eastern Time on Monday, November 13, 2006.

Take notice that the Commission received the following electric securities filings:

Docket Numbers: ES07-3-000.

Applicants: MDU Resources Group, Inc.

Description: MDU Resources Group, Inc. submits its Application for authorization of the issuance of securities and authorization to engage in methods of issuance other than competitive bidding and negotiated offers.

Filed Date: 10/18/2006.

Accession Number: 20061020-0222.

Comment Date: 5 p.m. Eastern Time on Wednesday, November 8, 2006.

Take notice that the Commission received the following public utility holding company filings:

Docket Numbers: PH06-109-001; PH06-110-001; PH06-111-001; PH06-112-001; PH06-113-001; PH06-114-001.

Applicants: Plainfield Direct Institutional Offshore Feeder Fund Limited; Plainfield Direct Offshore Feeder Fund Limited; Plainfield Direct Onshore Feeder Fund LP; Plainfield Special Situations Institutional Offshore Feeder Fund Limited; Plainfield Special Situations Offshore Feeder Fund Limited; Plainfield Special Situations Onshore Feeder Fund LP.

Description: Plainfield Direct Institutional Offshore, et al. submit a Notice of Material Change in Facts.

Filed Date: 10/10/2006.

Accession Number: 20061010-5068.

Comment Date: 5 p.m. Eastern Time on Tuesday, October 31, 2006.

Docket Numbers: PH06-115-001.

Applicants: D. E. Shaw & Co., II, Inc.

Description: D. E. Shaw & Co. II, Inc. submits a Notice of Material Change in Facts.

Filed Date: 10/19/2006.

Accession Number: 20061019-5044.

Comment Date: 5 p.m. Eastern Time on Thursday, November 9, 2006.

Docket Numbers: PH07-1-000.

Applicants: Central Vermont Power Service Corporation.

Description: Central Vermont Power Service Corp. submits a Waiver Notification pursuant to Section 366.3(c)(1).

Filed Date: 10/19/2006.

Accession Number: 20061019-5016.

Comment Date: 5 p.m. Eastern Time on Thursday, November 9, 2006.

Docket Numbers: PH07-2-000.

Applicants: Public Service Enterprise Group Incorporated.

Description: Public Service Enterprise Group Incorporated submits a petition of waiver pursuant to sections 366.21, 366.22, and 366.23.

Filed Date: 10/20/2006.

Accession Number: 20061020-5070.

Comment Date: 5 p.m. Eastern Time on Monday, November 13, 2006.

Take notice that the Commission received the following electric reliability filings:

Docket Numbers: RR06-1-003.

Applicants: North American Electric Reliability Council and North American Electric Reliability Corporation.

Description: North American Electric Reliability Council and North American Elec Reliability Corp submit a compliance filing addressing non-governance issues.

Filed Date: 10/18/2006.

Accession Number: 20061018-5067.

Comment Date: 5 p.m. Eastern Time on Friday, November 17, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-18139 Filed 10-27-06; 8:45 am]

BILLING CODE 6717-01-P